DEPARTMENT OF THE INTERIOR

Office of the Secretary

21st Century Conservation Service Corps Advisory Committee

AGENCY: Office of the Secretary, Interior.

ACTION: Notice of meeting.

SUMMARY: We, the Department of the Interior, announce a public meeting of the 21st Century Conservation Service Corps Advisory Committee (Committee).

DATES: Meeting: Wednesday, March 28, 2012, from 8:30 a.m. to 5 p.m., and on Thursday, March 29, 2012, from 8:30 a.m. to 12:00 noon (Pacific Time). Meeting Participation: Notify Lisa Young (see FOR FURTHER INFORMATION CONTACT) by close of business Friday, March 23, if requesting to make an oral presentation (limited to 2 minutes per speaker). The meeting will accommodate no more than a total of 45 minutes for all public speakers.

ADDRESSES: The meeting will be held at The Fort Mason Center Fire House, San Francisco, CA. The entrance for The Fort Mason Center is at Marina Blvd. and Buchanan Street. For specific directions, contact Lisa Young (see FOR FURTHER INFORMATION CONTACT).

FOR FURTHER INFORMATION CONTACT: Lisa Young, Designated Federal Officer (DFO), 1849 C Street NW., MS 3559, Washington, DC 20240; telephone (202) 208-7586; fax (202) 208-5873; or email Lisa_Young@ios.doi.gov.

SUPPLEMENTARY INFORMATION: In accordance with the requirements of the Federal Advisory Committee Act, 5 U.S.C. App. 2, we announce that the 21st Century Conservation Service Corps Advisory Committee will hold a meeting.

Background

Chartered in November 2011, the committee is a discretionary advisory committee established under the authority of the Secretary of the Interior. The purpose of the Committee is to provide the Secretary of Interior with recommendations on: (1) Developing a framework for the 21CSC, including program components, structure, and implementation, as well as accountability and performance evaluation criteria to measure success; (2) the development of certification criteria for 21CSC providers and individual certification of 21CSC members; (3) strategies to overcome existing barriers to successful 21CSC program implementation; (4) identifying partnership opportunities with corporations, private businesses or entities, foundations, and non-profit groups, as well as state, local, and tribal governments, to expand support for conservation corps programs, career training and youth employment opportunities; (5) and developing pathways for 21 CSC participants for future conservation engagement and natural resource careers.

Background information on the Committee is available at www.doi.gov/21csc.

Meeting Agenda

The Committee will convene to consider the initial recommendations from the subcommittees; and other Committee business. The public will be able to make comment on Thursday, March 29, 2012 from 10:30 a.m. to 11:15 a.m. The final agenda will be posted on www.doi.gov/21csc prior to the meeting.

Public Input

Interested members of the public may present, either orally or through written comments, information for the Committee to consider during the public meeting. Speakers who wish to expand upon their oral statements, or those who had wished to speak, but could not be accommodated during the public comment period, are encouraged to submit their comments in written form to the Committee after the meeting.

Individuals or groups requesting to make comment at the public Committee meeting will be limited to 2 minutes per speaker, with no more than a total of 45 minutes for all speakers. Interested parties should contact Lisa Young, DFO, in writing (preferably via email), by March 23, 2012. (See FOR FURTHER INFORMATION CONTACT), to be placed on the public speaker list for this meeting.

In order to attend this meeting, you must register by close of business March 23, 2012. The meeting location is open to the public. Space is limited, so all interested in attending should pre-register. Please submit your name, time of arrival, email address and phone number to Lisa Young via email at Lisa_Young@ios.doi.gov or by phone at (202) 208-7586.

Dated: March 7, 2012.
Lisa Young,
Designated Federal Officer.

[FR Doc. 2012-5891 Filed 3-9-12; 8:45 am]

BILLING CODE 4310-10-P